DEPARTMENT OF TRANSPORTATION

Federal Aviation Administration

14 CFR Part 71

[Airspace Docket No. 00-ASO-12]

Establishment of Class D Airspace; Stuart, FL; Correction

AGENCY: Federal Aviation Administration (FAA), DOT.

ACTION: Final rule correction.

SUMMARY: This action corrects an error in the preamble of a final rule that was published in the Federal Register on June 30, 2000, (65 FR 40492), Airspace Docket No. 00-ASO-12. The final rule establishes Class D airspace at Stuart, FL.

EFFECTIVE DATE: 0901 utc, October 5, 2000.

FOR FURTHER INFORMATION CONTACT: Nancy B. Shelton, Manager, Airspace Branch, Air Traffic Division, Federal Administration, P.O. Box 20636, Atlanta, GA 30320; telephone (404) 305-5627.

SUPPLEMENTARY INFORMATION:

History

Federal Register Document 00-16660, Airspace Docket No. 00-ASO-12, published on June 30, 2000 (65 FR 40492), established Class D airspace at Stuart, FL. In the preamble, the first paragraph under the heading “The Rule” inadvertently referred to Key West NAS instead of Stuart, FL. This action corrects the error.

Correction to Final Rule

Accordingly, pursuant to the authority delegated to me, the location of the Class D airspace in the preamble under the heading “The Rule” published in the Federal Register on June 30, 2000 (65 FR 40492), is corrected as follows:

1. On page 40492, column 2, in the preamble under the heading “The Rule”, in line 4 of the first paragraph, correct the location “Key West NAS” to read “Stuart, FL”.

Issued in College Park, GA, on August 7, 2000.
Wade T. Carpenter,
Acting Manager, Air Traffic Division, Southern Region.

[FR Doc. 00-20944 Filed 8-17-00; 8:45 am]

BILLING CODE 4910-13-M